SMALL BUSINESS ADMINISTRATION

[Disaster Declaration #15618 and #15619; Vermont Disaster Number VT-00035]

Presidential Declaration of a Major Disaster for Public Assistance Only for the State of Vermont

AGENCY: U.S. Small Business Administration.

ACTION: Notice.

SUMMARY: This is a Notice of the Presidential declaration of a major disaster for Public Assistance Only for the State of VERMONT (FEMA-4380-DR), dated 07/30/2018.

Incident: Severe Storm and Flooding.

Incident Period: 05/04/2018 through 05/05/2018.

DATES: Issued on 07/30/2018.

Physical Loan Application Deadline Date: 09/28/2018.

Economic Injury (EIDL) Loan Application Deadline Date: 04/30/2019.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: Notice is hereby given that as a result of the President's major disaster declaration on 07/30/2018, Private Non-Profit organizations that provide essential services of a governmental nature may file disaster loan applications at the address listed above or other locally announced locations.

The following areas have been determined to be adversely affected by the disaster:

Primary Counties:

Chittenden, Grand Isle, Lamoille, Orange, Orleans

The Interest Rates are:

| Percent
For Physical Damage:
Non-Profit Organizations with Credit Available Elsewhere | 2.500
Non-Profit Organizations without Credit Available Elsewhere | 2.500
For Economic Injury:
Non-Profit Organizations without Credit Available Elsewhere | 2.500

The number assigned to this disaster for physical damage is 156186 and for economic injury is 156190.

(Catalog of Federal Domestic Assistance Number 59008)

James Rivera,
Associate Administrator for Disaster Assistance.

[FR Doc. 2018-16868 Filed 8-6-18; 8:45 am]

BILLING CODE 8025-01-P